ENVIRONMENTAL PROTECTION AGENCY

40 CFR Parts 59, 60, 61, 62, 63, 65, 82, and 763

[FRL-9995-50-Region 1]

Change of Address for Region 1 Reports; Technical Amendments

AGENCY: Environmental Protection Agency (EPA).

ACTION: Final rule; technical amendments.

SUMMARY: The Environmental Protection Agency (EPA) is amending its regulations to reflect a change in address for submitting certain reports to EPA's Region 1 office and to correct the addresses for submitting certain air program reports to the EPA Region 1 states of Connecticut, Maine, Massachusetts, New Hampshire, Rhode Island and Vermont once the state is delegated. This action is editorial in nature and is intended to provide accuracy and clarity to the agency's regulations.

DATES: Effective August 16, 2019.

FOR FURTHER INFORMATION CONTACT: Susan Lancey, Air Permits, Toxics, and Indoor Programs Branch, U.S. Environmental Protection Agency, EPA Region 1 Office, 5 Post Office Square—Suite 100, (Mail code 05-2), Boston, MA 02109-3912, telephone number 617-918-1656, lancey.susan@epa.gov.

SUPPLEMENTARY INFORMATION:

I. Background and Purpose

The EPA is amending its regulations in 40 CFR parts 59, 60, 61, 62, 63, 65, 82 and 763 to reflect a change in the mailing address for EPA's Region 1 office. The EPA is also amending its regulations in 40 CFR parts 60, 61, and 65 to reflect a change in the mailing addresses for the Region 1 states of Connecticut, Maine, Massachusetts, New Hampshire, Rhode Island and Vermont. This technical amendment merely updates and corrects the addresses for mailing certain reports and other information to EPA Region 1's office and to the states of Connecticut, Maine, Massachusetts, New Hampshire, Rhode Island and Vermont once delegated a particular standard in 40 CFR parts 60, 61, and 65. Consequently, EPA has determined that this rule falls under the “good cause” exemption in section 553(b)(3)(B) of the Administrative Procedures Act (APA) which, upon finding “good cause,” authorizes agencies to dispense with public participation. Under section 553 of the APA, an agency may find good cause where procedures are “impractical, unnecessary, or contrary to the public interest.” Public comment is “unnecessary” and “contrary to the public interest” since the mailing address has changed for Region 1 reports submitted under 40 CFR parts 59, 60, 61, 62, 63, 65, 82 and 763 and since the Region 1 state mailing addresses have changed for reports submitted once the state is delegated under 40 CFR parts 60, 61, and 65. Notice in the CFR benefits the public by updating citations.

II. Statutory and Executive Order Reviews

This final rule implements technical amendments to 40 CFR parts 59, 60, 61, 62, 63, 65, 82, and 763 to reflect a change in address for reports submitted to EPA's Region 1 office and implements technical amendments to 40 CFR parts 60, 61, and 65 to reflect a change in addresses for the states of Connecticut, Maine, Massachusetts, New Hampshire, Rhode Island and Vermont upon delegation of authority. It does not otherwise impose or amend any requirements. For that reason, this action:

• Is not a significant regulatory action subject to review by the Office of Management and Budget under Executive Orders 12866 (58 FR 51735, October 4, 1993) and 13563 (76 FR 3821, January 21, 2011);

• Is not an Executive Order 13771 regulatory action because this action is not significant under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

In addition, it does not involve any technical standards that require the Agency' consideration of voluntary consensus standards pursuant to Section 12(d) of the National Technology Transfer and Advancement Act of 1995 (15 U.S.C. 272 note). It also does not provide the EPA with the discretionary authority to address, as appropriate, disproportionate human health or environmental effects, using practicable and legally permissible methods, under Executive Order 12898 (59 FR 7629, February 16, 1994). And it does not have Tribal implications because it would not have a substantial direct effect on one or more Indian Tribes, on the relationship between Federal Government and Indian Tribes, or on the distribution of power and responsibilities between the Federal Government and Indian Tribes as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C.

List of Subjects

Part 59

Environmental protection, Air pollution control, Confidential business information, Labeling, Ozone, Reporting and recordkeeping requirements, Volatile organic compounds.

Parts 60, 61, 62, 63, and 65

Environmental protection, Administrative practice and procedure, Air pollution control, Reporting and recordkeeping requirements.

Part 82

Environmental protection, Administrative practice and procedure, Air pollution control, Chemicals, Exports, Government procurement, Imports, Labeling, Reporting and recordkeeping requirements.

Part 763

Environmental protection, Administrative practice and procedure, Asbestos, Confidential business information, Hazardous substances, Imports, Intergovernmental relationships, Labeling, Occupational safety and health, Reporting and recordkeeping requirements, Schools.

Dated: June 19, 2019.
Deborah Szaro,
Acting Regional Administrator, EPA Region 1.

Title 40 CFR parts 59, 60, 61, 62, 63, 65, 82, and 763 are amended as follows:

PART 59—NATIONAL VOLATILE ORGANIC COMPOUND EMISSION STANDARDS FOR CONSUMER AND COMMERCIAL PRODUCTS

1. The authority citation for part 59 continues to read as follow:

Authority: 42 U.S.C 7414 and 7511b(e).

Subpart B—National Volatile Organic Compound Emission Standards for Automobile Refinish Coatings

2. Section 59.107 is amended by revising the Region I address to read as follows:

§ 59.107 Addresses of EPA Regional Offices.

* * * * *

EPA Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

Subpart C—National Volatile Organic Compound Emission Standards for Consumer Products

3. Section 59.210 is amended by revising the Region I address to read as follows:

§ 59.210 Addresses of EPA Regional Offices.

* * * * *

EPA Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

Subpart D—National Volatile Organic Compound Emission Standards for Architectural Coatings

4. Section 59.409(a) is amended by revising the Region I address to read as follows:

§ 59.409 Addresses of EPA Offices.

(a) * * *

EPA Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

Subpart E—National Volatile Organic Compound Emission Standards for Aerosol Coatings

5. Section 59.512 is amended by revising the Region I address to read as follows:

§ 59.512 Addresses of EPA regional offices.

* * * * *

EPA Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

PART 60—NEW SOURCE PERFORMANCE STANDARDS

6. The authority citation for part 60 continues to read as follows:

Authority: 42 U.S.C. 7401 et seq.

Subpart A—General Provisions

7. In § 60.4, amend paragraph (a) by revising the Region I address and by revising paragraphs (b)(8), (b)(21), (b)(23), (b)(31), (b)(41) and (b)(47), to read as follows:

§ 60.4 Address.

(a) * * *

Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

(b) * * *

(8) State of Connecticut, Compliance Analysis and Coordination Unit, Bureau of Air Management, Department of Energy and Environmental Protection, 79 Elm Street, 5th Floor, Hartford, CT 06106-5127.

* * * * *

(21) State of Maine, Maine Department of Environmental Protection, Bureau of Air Quality, 17 State House Station, Augusta, ME 04333-0017.

* * * * *

(23) Commonwealth of Massachusetts, Massachusetts Department of Environmental Protection, Division of Air and Climate Programs, One Winter Street, Boston, MA 02108.

* * * * *

(31) State of New Hampshire, New Hampshire Department of Environmental Services, Air Resources Division, 29 Hazen Drive, P.O. Box 95, Concord, NH 03302-0095.

* * * * *

(41) State of Rhode Island, Rhode Island Department of Environmental Management, Office of Air Resources, 235 Promenade Street, Providence, RI 02908.

* * * * *

(47) State of Vermont, Agency of Natural Resources, Department of Environmental Conservation, Air Quality and Climate Division, Davis 2, One National Life Drive, Montpelier, VT 05620-3802.

* * * * *

PART 61—NATIONAL EMISSION STANDARDS FOR HAZARDOUS AIR POLLUTANTS

8. The authority citation for part 61 continues to read as follows:

Authority: 42 U.S.C. 7401 et seq.

Subpart A—General Provisions

9. In § 61.04, amend paragraph (a) by revising the Region I address, and by revising paragraphs (b)(8), (b)(21), (b)(23), (b)(31), (b)(41) and (b)(47), to read as follows:

§ 61.04 Address.

(a) * * *

Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

(b) * * *

(8) State of Connecticut: Compliance Analysis and Coordination Unit, Bureau of Air Management, Department of Energy and Environmental Protection, 79 Elm Street, 5th Floor, Hartford, CT 06106-5127.

* * * * *

(21) State of Maine: Maine Department of Environmental Protection, Bureau of Air Quality, 17 State House Station, Augusta, ME 04333-0017.

* * * * *

(23) Commonwealth of Massachusetts, Massachusetts Department of Environmental Protection, Division of Air and Climate Programs, One Winter Street, Boston, MA 02108.

* * * * *

(31) State of New Hampshire, New Hampshire Department of Environmental Services, Air Resources Division, 29 Hazen Drive, P.O. Box 95, Concord, NH 03302-0095.

* * * * *

(41) State of Rhode Island, Rhode Island Department of Environmental Management, Office of Air Resources, 235 Promenade Street, Providence, RI 02908.

* * * * *

(47) State of Vermont, Agency of Natural Resources, Department of Environmental Conservation, Air Quality and Climate Division, Davis 2, One National Life Drive, Montpelier, VT 05620-3802.

* * * * *

PART 62—APPROVAL AND PROMULGATION OF STATE PLANS FOR DESIGNATED FACILITIES AND POLLUTANTS

10. The authority citation for part 62 continues to read as follows:

Authority: 42 U.S.C. 7401 et seq.

Subpart A—General Provisions

11. Section 62.10 is amended by adding a heading to the table and revising the first entry for the Region I address in the table to read as follows:

§ 62.10 Submission to Administrator.

* * * * *

Table 1 to § 62.10
Region and jurisdiction covered | Address
I—Connecticut, Maine, Massachusetts, New Hampshire, Rhode Island, and Vermont | Director, Enforcement and Compliance Assurance Division, U.S. EPA Region I, 5 Post Office Square—Suite 100 (04-2), Boston, MA 02109-3912, Attn: Air Compliance Clerk.
* * * * * * *

PART 63—NATIONAL EMISSIONS STANDARDS FOR HAZARDOUS AIR POLLUTANTS

12. The authority citation for part 63 continues to read as follows:

Authority: 42 U.S.C. 7401 et seq.

Subpart A—General Provisions

13. Section 63.13(a) is amended by revising the address for Region I to read as follows:

§ 63.13 Addresses of State air pollution control agencies and EPA Regional Offices.

(a)* * *

EPA Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

PART 65—CONSOLIDATED FEDERAL AIR RULE

14. The authority citation for part 65 continues to read as follows:

Authority: 42 U.S.C. 7401 et seq.

Subpart A—General Provisions

15. In § 65.14, amend paragraph (a) by revising the Region I address and by revising paragraphs (b)(7), (b)19), (b)(21), (b)(29), (b)(39) and (b)(45), to read as follows:

§ 65.14 Addresses.

(a)* * *

Region I (Connecticut, Maine, Massachusetts, New Hampshire, Rhode Island, Vermont) Director, Enforcement and Compliance Assurance Division, U.S. EPA Region I, 5 Post Office Square—Suite 100 (04-2), Boston, MA 02109-3912, Attn: Air Compliance Clerk.

* * * * *

(b) * * *

(7) Connecticut. Compliance Analysis and Coordination Unit, Bureau of Air Management, Department of Energy and Environmental Protection, 79 Elm Street, 5th Floor, Hartford, CT 06106-5127.

* * * * *

(19) Maine. Maine Department of Environmental Protection, Bureau of Air Quality, 17 State House Station, Augusta, ME 04333-0017.

* * * * *

(21) Massachusetts. Massachusetts Department of Environmental Protection, Division of Air and Climate Programs, One Winter Street, Boston, MA 02108.

* * * * *

(29) New Hampshire. New Hampshire Department of Environmental Services, Air Resources Division, 29 Hazen Drive, P.O. Box 95, Concord, NH 03302-0095.

* * * * *

(39) Rhode Island. Rhode Island Department of Environmental Management, Office of Air Resources, 235 Promenade Street, Providence, RI 02908.

* * * * *

(45) Vermont. Agency of Natural Resources, Department of Environmental Conservation, Air Quality and Climate Division, Davis 2, One National Life Drive, Montpelier, VT 05620-3802.

* * * * *

PART 82—PROTECTION OF STRATOSPHERIC OZONE

16. The authority for part 82 continues to read as follows:

Authority: 42 U.S.C. 7414, 7601, 7671-7671q.

Subpart B—Servicing of Motor Vehicle Air Conditioners

17. Section 82.42 is amended by revising paragraph (a)(1)(iii)(A) to read as follows:

§ 82.42 Certification, recordkeeping and public notification requirements.

(a) * * *

(1) * * *

(iii) * * *

(A) Owners or lessees of recycling or recovery equipment having their places of business in Connecticut, Maine, Massachusetts, New Hampshire, Rhode Island, and Vermont must send their certifications to: CAA section 609 Enforcement Contact; EPA Region I; Mail Code 04-2; 5 Post Office Square—Suite 100, Boston, MA 02109-3912.

* * * * *

PART 763—ASBESTOS-CONTAINING MATERIAL IN SCHOOLS

18. The authority for part 763 continues to read as follows:

Authority: 15 U.S.C. 2605, 2607(c), 2643, and 2646.

Subpart E—Asbestos Containing Materials in Schools

19. Appendix C to subpart E is amended by revising the address for Region I under II.C.3 to read as follows:

Appendix C to Subpart E of Part 763—Asbestos Model Accreditation Plan

* * * * *

II. * * *

C. * * *

3. * * *

EPA, Region 1, Asbestos Coordinator, 5 Post Office Square—Suite 100 (05-4), Boston, MA 02109-3912, (617) 918-1563.

* * * * *

20. Appendix D to subpart E is amended by revising the address for Region I address to read as follows:

Appendix D to Subpart E of Part 763—Transport and Disposal of Asbestos Waste

* * * * *

Region I

Asbestos NESHAPs Contact, Enforcement and Compliance Assurance Division, USEPA, Region I, 5 Post Office Square—Suite 100 (05-4), Boston, MA 02109-3912, (617) 918-1739.

* * * * *

[FR Doc. 2019-13579 Filed 7-16-19; 8:45 am]

BILLING CODE 6560-50-P